DEPARTMENT OF THE TREASURY

United States Mint

Notification of Citizens Coinage Advisory Committee July 23 and 24, 2013, Public Meeting

ACTION: Notification of Citizens Coinage Advisory Committee July 23 and 24, 2013, Public Meeting.

SUMMARY: Pursuant to United States Code, Title 31, section 5135(b)(8)(C), the United States Mint announces the Citizens Coinage Advisory Committee (CCAC) public meeting scheduled for July 23 and 24, 2013.

Dates: July 23 and 24, 2013.

Times:

July 23—9:15 a.m. to 4:15 p.m.

July 24—9:15 a.m. to 11:45 a.m.

Location: Conference Room A, United States Mint, 801 9th Street NW., Washington, DC 20220.

Subject: Review and discussion of candidate designs for the 2014 Civil Rights Act of 1964 Commemorative Coin Program; the 16th Street Baptist Church Bombing Victims Congressional Gold Medal; the 2014 National Baseball Hall of Fame Commemorative Coin Program; the 2014 Native American $1 Coin Program; the Code Talkers Recognition Congressional Medals for the Pueblo of Acoma (New Mexico), Hopi Tribe (Arizona), Oneida Nation (Wisconsin), Ponca Tribe (Oklahoma), Tonto Apache Tribe (Arizona), and White Mountain Apache Tribe (Arizona); and review and consideration of the FY2013 Annual Report.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: July 10, 2013.
Richard A. Peterson,
Acting Director, United States Mint.

[FR Doc. 2013-16981 Filed 7-15-13; 8:45 am]

BILLING CODE 4810-37-P